DEPARTMENT OF TRANSPORTATION

Federal Transit Administration

[FTA Docket No. FTA 2021-0007]

Agency Information Collection Activity Under OMB Review

AGENCY: Federal Transit Administration, DOT.

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before September 23, 2021.

ADDRESSES: Written comments and recommendations for the proposed information collection should be sent within 30 days of publication of this notice to www.reginfo.gov/public/do/PRAMain. Find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590, (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On May 28, 2021 FTA published a 60-day notice (86 FR 16442) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Survey of FTA Stakeholders.

OMB Control Number: 2132-0564.

Type of Request: Renewal with revisions of a previously approved information collection.

Abstract: Executive Order 12862, “Streamlining Service Delivery and Improving Customer Service,” requires FTA to identify its stakeholders and address how the agency will provide services in a manner that seeks to streamline service delivery and improve the experience of its customers. FTA is seeking a three-year approval for an existing information collection with revisions. Changes in methodology will improve the quality of stakeholder feedback, and non-substantive changes to the survey instrument will more accurately assess the data collected from from transit agencies, states and metropolitan planning organizations. FTA will utilize the survey to assess how its services are perceived by its customers, learn about opportunities for improvement and establish goals to measure results. The data captured from the survey will provide this information and enable FTA to make improvements where necessary. The survey will be limited to data collections that solicit voluntary opinions and will not involve information that is required by regulations. The estimated number of respondents is 6,454, an increase of 5,266 respondents from the previous request of 1,188 respondents. There is an increase in the number of respondents due to FTA's efforts to expand outreach to a broader cross-section of FTA stakeholders. Respondents are split into two groups. Group A includes Chief Executive Officers (CEOs) and other executive leaders of transit agencies, state DOTs, and other FTA stakeholders. Group B includes unit supervisors and professional staff such as engineers, urban planners and budget analysts from the same organizations. The previous IC only targeted respondents in Group A. The current IC targets respondents in both Group A and Group B. To further expand stakeholder outreach, FTA accessed an additional database, and allowed multiple respondents to submit responses from a single organization. Previously, since only CEOs or other top executive leader of an organization responded, there could be only one response per organization because there is only one top executive leader per organization.

However, the expansion of the target population to other labor categories allows multiple people from the same organization to respond to the survey (CEO, engineer, urban planner, etc.). There is a decrease in the estimated annual total burden hours, despite the increase in number of respondents, in large part because FTA found that respondents spent less time interacting with the previous survey than estimated. In addition to stakeholder outreach outlined in #8 above, in 2019, FTA utilized survey analytics to appropriately determine the amount of time spent filling out the survey.

Respondents: Transit agencies, States, and Metropolitan Planning Organizations.

Estimated Annual Burden on Respondents: 6,454.

Estimated Annual Number of Responses: 6,454.

Estimated Total Annual Burden: 807.

Frequency: Biennial.

Nadine Pembleton,
Director, Office of Management Planning.

[FR Doc. 2021-18206 Filed 8-23-21; 8:45 am]

BILLING CODE 4910-57-P